DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: Excess Federal Real Property Program-Public Benefit Conveyance Application.

OMB Number: 1660-0080.

Abstract: General Services Administration (GSA) provides announcements to FEMA and to State, local and Tribal governments concerning available Federal surplus real property for emergency management response use purposes including fire and rescue services. An applicant must notify the disposal agency such as GSA Regional and Headquarters offices, the Department of Defense (DOD) Base Realignment Closure (BRAC) Offices, and FEMA Regional and Headquarters offices of its intent to acquire the property. The notification should occur within 20 days after notification of property availability. States, the District of Columbia, any territory or possession of the United States, or any political subdivision or instrumentality thereof, may apply for the transfer of conveyance of real property for emergency management response use purposes. An applicant must formally submit a completed Excess Federal Real Property Program Application for Public Benefit Conveyances including supporting documentation to FEMA. After receiving this information, FEMA will then determine if the requested excess Federal real property is required for emergency management response use. The application process designed to ensure that the applicant's proposed use of the Federal real property is for emergency management use as an integral part of applicable State, local and Tribal government plans.

Affected Public: State, local or Tribal government.

Number of Respondents:

Annual Burden Hours
Project/activity (survey, form(s), focus group, worksheet, etc.) | Number of respondents | Frequency of responses | Burden hours per respondent | Annual responses | Total annual burden hours
| (A) | (B) | (C) | (D) = (A×B) | (E) = (C×D)
Excess Federal Real Property Application | *15 | 1 | 3 | 15 | 45
Total | 15 | 1 | 3 | 15 | 45
* The burden estimates in the proposed 60-day Federal Register notice has been changed to correct the number of respondents from 1 to 15. This change has increased the total annual burden from 3 to 45 hours. Therefore the estimated cost has been changed from $150 to $2,250.

Estimated Time per Respondent: 3.

Estimated Total Annual Burden Hours: 45.

Frequency of Response: One-time.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6974. Comments must be submitted on or before March 7, 2007.

FOR FURTHER INFORMATION CONTACT: Requests for additional information or copies of the information collection should be made to Chief, Records Management, FEMA, 500 C Street, SW., Room 609, Washington, DC 20472, facsimile number (202) 646-3347, or e-mail address FEMA-Information-Collections@dhs.gov.

Dated: January 29, 2007.
John A. Sharetts-Sullivan,
Chief, Records Management and Privacy, Information Resources Management Branch, Information Technology Services Division, Federal Emergency Management Agency, Department of Homeland Security.

[FR Doc. E7-1768 Filed 2-2-07; 8:45 am]

BILLING CODE 9110-11-P